DEPARTMENT OF TRANSPORTATION

Federal Aviation Administration

14 CFR Part 71

[Docket No. FAA-2005-21872; Airspace Docket No. 05-ACE-26]

Modification of Class E Airspace; Norfolk, NE; Correction

AGENCY: Federal Aviation Administration (FAA), DOT.

ACTION: Direct final rule; request for comments; correction.

SUMMARY: This action corrects a direct final rule; request for comments that was published in the Federal Register on Friday, July 29, 2005, (70 FR 43745) [FR Doc. 05-21872].

DATES: This direct final rule is effective on 0901 UTC, October 27, 2005.

FOR FURTHER INFORMATION CONTACT: Brenda Mumper, Air Traffic Division, Airspace Branch, ACE-520A, DOT Regional Headquarters Building, Federal Aviation Administration, 901 Locust, Kansas City, MO 64106; telephone (816) 329-2524.

SUPPLEMENTARY INFORMATION:

History

Federal Register Document 05-21872, published on Friday, July 29, 2005, (70 FR 43745) modified Class E Airspace at Norfolk, NE. The name of the airport is misspelled in the legal description of the Class E5 Airspace Area. This action corrects that error.

Accordingly, pursuant to the authority delegated to me, the error in the legal description of the Class E5 Airspace Area at Norfolk, NE, as published in the Federal Register on Friday, July 29, 2005, (70 FR 43745) [FR Doc. 05-21872] is corrected as follows:

PART 71—[AMENDED]

§ 71.1 [Corrected]

On page 43746, Column 3, following ACE NE E5 Norfolk, NE, Replace the word “Stephan” with the word “Stefan” in the airport name. In the third line of the following legal description replace the word “Stephan” with the word “Stefan” in the airport name.

Dated: Issued in Kansas City, MO, on September 2, 2005.
Elizabeth S. Wallis,
Acting Area Director, Western Flight Services Operations.

[FR Doc. 05-18158 Filed 9-12-05; 8:45 am]

BILLING CODE 4910-13-M